DEPARTMENT OF AGRICULTURE

Commodity Credit Corporation

Notice of Request for a Renewal of a Currently Approved Information Collection

AGENCY: Commodity Credit Corporation, USDA.

ACTION: Notice and request for comments.

SUMMARY: In accordance with the Paperwork Reduction Act of 1995, this notice announces the Commodity Credit Corporation's (CCC) intention to request a revision for a currently approved information collection in support of the CCC Export Credit Guarantee (GSM-102) Program based on current program levels and participants.

DATES: Comments on this notice must be received by January 25, 2021 to be assured consideration.

ADDRESSES: We invite you to submit comments, identified by the OMB Control number 0551-004, as requested in this document. In your comment, include the volume, date, and page number of this issue of the Federal Register. You may submit comments by any of the following methods:

• Federal eRulemaking Portal: Go to http://www.regulations.gov. Follow the online instructions for submitting comments.

• Mail, hand delivery, or courier: Juan McCoy, Director, Credit Programs Division, Global Programs, Foreign Agricultural Service, 1400 Independence Avenue SW, Washington, DC 20250-1025, STOP 1025; or by email at Juan.McCoy@usda.gov; or by telephone at (202) 720-0370.

Comments will be available for inspection online and posted without change, including any personal information, at http://www.regulations.gov.

FOR FURTHER INFORMATION CONTACT: Juan McCoy, Director, Credit Programs Division, Global Programs, Foreign Agricultural Service, U.S. Department of Agriculture, AgStop 1025, Washington, DC 20250-1025, telephone (202) 720-0370.

SUPPLEMENTARY INFORMATION:

Title: CCC Export Credit Guarantee (GSM-102) Program.

OMB Number: 0551-0004.

Expiration Date of Approval: January 31, 2021.

Type of Request: Revision of a currently approved information collection.

Abstract: The primary objective of the GSM-102 program is to expand U.S. agricultural exports by making available export credit guarantees to encourage U.S. private sector financing of foreign purchases of U.S. agricultural commodities on credit terms. The CCC currently has programs operating in at least 144 countries and regions with 167 exporters eligible to participate. Under 7 CFR part 1493, exporters, foreign banks, and U.S. banks are required to submit the following: (1) Information about the exporter, foreign banks, and U.S. banks for program participation; (2) applications for payment guarantees; (3) notices of assignment; (4) repurchase agreements; (5) information regarding the actual export of the commodity (evidence of export report); (6) notice of default and claims for loss; and (7) appeals. In addition, each exporter and exporter's assignee (U.S. financial institution) must maintain records on all information submitted to CCC and in connection with sales made under the GSM-102 program. The information collected is used by CCC to manage, plan, evaluate, and account for government resources. The reports and records are required to ensure the proper and judicious use of public funds.

Estimate of Burden: The public reporting burden for these collections is estimated to average 0.2776 hours per response.

Respondents: U.S. exporters, U.S. financial institutions, and foreign financial institutions.

Estimated Number of Respondents: 47 per annum.

Estimated Number of Responses per Respondent: 86.52 per annum.

Estimated Total Annual Burden of Respondents: 1,129.52 hours.

Request for Comments: Send comments regarding (a) whether the proposed collection of information is necessary for the proper performance of the functions of the agency, including whether the information will have practical utility; (b) the accuracy of the agency's estimate of the burden of the proposed collection of information including validity of the methodology and assumption used; (c) ways to enhance the quality, utility, and clarity of the information to be collected; and (d) ways to minimize the burden of the collection of information on those who are to respond, including through the use of automated, electronic, mechanical, or other technological collection techniques or other forms of information technology. Copies of this information collection can be obtained from Ron Croushorn, the Agency Information Collection Coordinator, at (202) 720-3038 or email at Ron.Croushorn@usda.gov.

FAS is committed to compliance with the Government Paperwork Elimination Act, which requires Government agencies, in general, to provide the public the option of submitting information or transacting business electronically to the maximum extent possible.

Comments will be available for inspection online at http://www.regulations.gov and at the mail address listed above between 8:00 a.m. and 4:30 p.m., Monday through Friday, except holidays.

Persons with disabilities who require an alternative means for communication of information (Braille, large print, audiotape, etc.) should contact Colette Ross (Human Resources, 202-720-8805) or Jeffrey Galloway (Office of Civil Rights, 202-690-1399).

All comments received in response to this notice, including names and addresses when provided, will be a matter of public record. Comments will be summarized and included in the submission for Office of Management and Budget approval.

Daniel Whitley,
Acting Administrator, Foreign Agricultural Service.

[FR Doc. 2020-25980 Filed 11-23-20; 8:45 am]

BILLING CODE 3410-10-P